DEPARTMENT OF ENERGY

Federal Energy Regulatory Commission

[Project No. 13570-002]

Warm Springs Irrigation District; Notice of Technical Meeting

a. Project Name and Number: Warm Springs Dam Hydroelectric Project No. 13570.

b. Date: July 10, 2014; 1:30 p.m. Eastern Time (11:30 a.m. Mountain Time).

c. Place: Telephone conference with the U.S. Bureau of Reclamation (Reclamation) and the Warm Springs Irrigation District.

d. FERC Contact: Ken Wilcox, ken.wilcox@ferc.gov or (202) 502-6835.

e. Purpose of Meeting: To discuss Reclamation's authority over the operation, maintenance, and management of the Warm Springs Dam and reservoir, relative to the proposed hydroelectric project.

f. A summary of the meeting will be prepared and filed for the project's record.

g. All local, state, and federal agencies, Indian tribes, and other interested parties are invited to participate by phone. Please contact Ken Wilcox at ken.wilcox@ferc.gov or (202) 502-6835 by close of business Tuesday, July 8, 2014, to RSVP and to receive specific instructions on how to participate.

Dated: June 24, 2014.
Kimberly D. Bose,
Secretary.

[FR Doc. 2014-15222 Filed 6-27-14; 8:45 am]

BILLING CODE 6717-01-P